SMALL BUSINESS ADMINISTRATION

Data Collection Available for Public Comments

ACTION: 60-Day notice and request for comments.

SUMMARY: The Small Business Administration (SBA) intends to request approval, from the Office of Management and Budget (OMB) for the collection of information described below. Unless waived, the Paperwork Reduction Act (PRA) requires federal agencies to publish a notice in the Federal Register concerning each proposed collection of information before submission to OMB, and to allow 60 days for public comment in response to the notice.

DATES: Submit comments on or before July 2, 2024.

ADDRESSES: Send all comments to, Robert Camacho, Financial and Loan Specialist, Office of Financial Assistance, robert.camacho@sba.gov, Small Business Administration.

FOR FURTHER INFORMATION CONTACT: Robert Camacho, Financial and Loan Specialist, Office of Financial Assistance, (817) 661-0317 robert.camacho@sba.gov, Small Business Administration, or Curtis B. Rich, Agency Clearance Officer, (202) 205-7030, curtis.rich@sba.gov.

SUPPLEMENTARY INFORMATION: The SBA Form 3513 has been used for physical and Economic Injury Disaster Loans (EIDL), including COVID loans. Going forward, this form will eventually be used for determining fraud for non-COVID disaster loans only.

As authorized by the Coronavirus Preparedness and Response Supplemental Appropriations Act, 2020, the Coronavirus Aid, Relief, and Economic Security Act (CARES Act), the Paycheck Protection Program and Health Care Enhancement Act, and the Economic Aid to Hard-Hit Small Businesses, Nonprofits, and Venues Act, the Small Business Administration (SBA) provided COVID-19 Economic Injury Disaster Loans to provide working capital for small businesses, private nonprofits, and small agricultural enterprises who suffered substantial economic injury as a result of the Coronavirus pandemic. SBA received more than 16 million loan applications during the pandemic and a small percentage of those applications may have been a result of identity theft.

To ensure SBA is taking the appropriate action for any individuals who have indicated they have been the victim of identity theft, the individual will need to provide an affidavit to SBA indicating no involvement in the filing of the loan application, and that they did not receive or have knowledge of who received the loan funds. The information will be collected from those individuals (or their representative) who, without their knowledge or authorization, had an application submitted to SBA's Office of Capital Access (OCA) utilizing their personal information. OCA will review the information contained in the affidavit to determine whether there was identity theft involved, and if so, OCA will take the necessary steps to stop all billing statements, release any collateral filings, and to ensure that loan information will not be publicly reported in the name of the identity theft victim. In addition, this affidavit will be provided to the Office of Inspector General and other enforcement agencies in any legal action as necessary.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0418.

(1) Title: Economic Injury Disaster Loan (EIDL) Application Declaration of Identify Theft COVID-19.

Description of Respondents: Individuals who have identified and attest to potential identity theft.

Form Number: SBA Form 3513.

Total Estimated Annual Responses: 60,000.

Total Estimated Annual Hour Burden: 15,000.

Curtis Rich,
Agency Clearance Officer.

[FR Doc. 2024-09681 Filed 5-2-24; 8:45 am]

BILLING CODE 8026-09-P